ENVIRONMENTAL PROTECTION AGENCY

[FRL-10001-38-Region 6]

Underground Injection Control Program; Hazardous Waste Injection Restrictions; Petition for Exemption Reissuance—Class I Hazardous Waste Injection; Veolia ES Technical Solutions, LLC (Veolia) Port Arthur Facility

AGENCY: Environmental Protection Agency (EPA).

ACTION: Notice of a final decision on a UIC no migration petition reissuance.

SUMMARY: Notice is hereby given that a reissuance of an exemption to the Land Disposal Restrictions, under the 1984 Hazardous and Solid Waste Amendments to the Resource Conservation and Recovery Act, has been granted to Veolia for two Class I hazardous waste injection wells located at their Port Arthur, Texas facility. The company has adequately demonstrated to the satisfaction of the EPA by the petition reissuance application and supporting documentation that, to a reasonable degree of certainty, there will be no migration of hazardous constituents from the injection zone for as long as the waste remains hazardous. This final decision allows the underground injection by Veolia of the specific restricted hazardous wastes identified in this exemption reissuance request into Class I hazardous waste injection wells WDW-160 and WDW-358 until December 31, 2041, unless the EPA moves to terminate this exemption. Additional conditions included in this final decision may be reviewed by contacting the EPA Region 6 Ground Water/UIC Section. A public notice was issued August 8, 2019, and the public comment period closed on September 23, 2019, and no comments were received. This decision constitutes final Agency action and there is no Administrative appeal.

DATES: This action was effective as of October 2, 2019.

ADDRESSES: Copies of the petition reissuance and all pertinent information relating thereto are on file at the following location: Environmental Protection Agency, Region 6, Water Division, Safe Drinking Water Branch (6WDD), 1201 Elm Street, Suite 500, Dallas, Texas 75270-2102.

FOR FURTHER INFORMATION CONTACT: Philip Dellinger, Chief, Ground Water/UIC Section, EPA—Region 6, telephone (214) 665-8324.

Dated: October 2, 2019.
Charles W. Maguire,
Director, Water Division.

[FR Doc. 2019-23222 Filed 10-23-19; 8:45 am]

BILLING CODE 6560-50-P